DEPARTMENT OF EDUCATION

[CFDA No. 84.334A (Partnership grants)]

Gaining Early Awareness and Readiness for Undergraduate Programs (GEAR UP)

AGENCY: Office of Postsecondary Education, Department of Education.

ACTION: Notice of intent to fund down the fiscal year (FY) 2008 grant slate for the GEAR UP Program.

SUMMARY: The Secretary intends to use the grant slate developed in FY 2008 for the GEAR UP Program authorized by Title IV, Part A of the Higher Education Act of 1965, as amended (HEA), to make new grant awards in FY 2010. The Secretary takes this action because a significant number of high-quality applications remain on the FY 2008 grant slate. We expect to use an estimated $4,481,799 for new awards in FY 2010.

FOR FURTHER INFORMATION CONTACT: James Davis, U.S. Department of Education, 1990 K Street, NW., 6th Floor, Washington, DC 20006-8524. Telephone: (202) 502-7676 or via Internet: James.Davis@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

On November 5, 2007, we published a notice in the Federal Register (72 FR 62449) inviting applications for new awards under the GEAR UP Program.

In response to this notice, we received a significant number of high-quality applications for grants under the GEAR UP Program and made seven new State grant awards and 31 new Partnership grant awards. Additionally, after determining that the amount of FY 2009 funding available for new GEAR UP awards was too small to warrant a new competition, we published a notice in the Federal Register on May 8, 2009 (74 FR 21671), of our intent to make FY 2009 GEAR UP program awards by funding down the FY 2008 funding slate. Accordingly, the Department awarded new FY 2009 GEAR UP program awards to the next highest scoring State proposal and the five next highest scoring partnership proposals. However, many applications that were awarded high scores by peer reviewers still did not receive funding.

We have recently learned that very limited funding is available for new awards under this program in FY 2010. Because any new awards must be made by September 30, 2010, we have decided to select grantees in FY 2010 from the existing slate of applicants from the FY 2008 competition. This slate was developed during the FY 2008 competition using the selection criteria, application requirements, and definitions referenced in the 2007 Federal Register notice.

Note: To be eligible to receive a grant pursuant to this notice, all applicants being considered for funding based on the funding slate for the FY 2008 competition must meet all statutory and regulatory eligibility criteria and other requirements for this program.

Program Authority: 20 U.S.C. 1070a-21-1070-28.

Electronic Access to This Document

You may view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: September 21, 2010.
Eduardo M. Ochoa,
Assistant Secretary for Postsecondary Education.

[FR Doc. 2010-24030 Filed 9-23-10; 8:45 am]

BILLING CODE 4000-01-P